DEPARTMENT OF ENERGY

Federal Energy Regulatory Commission

[Docket No. RP00-285-000]

Northwest Alaskan Pipeline Company; Notice of Proposed Changes in FERC Gas Tariff

May 18, 2000.

Take notice that on May 15, 2000 Northwest Alaskan Pipeline Company (Northwest Alaskan) tendered for filing to become part of its FERC Gas Tariff, Original Volume No. 2, Forty-Eighth Revised Sheet No. 5, proposed to be effective July 1, 2000.

Northwest Alaskan states that the instant filing is submitted pursuant to Section 4 of the Natural Gas Act, Section 9 of the Alaskan Natural Gas Transportation Act of 1976 and Part 154 of the Federal Energy Regulatory Commission's Regulations. Northwest Alaskan is submitting this filing pursuant to the provisions of the amended purchase agreements between Northwest Alaskan and Pan-Alberta Gas (U.S.), Inc. (PAG-US), and pursuant to Rate Schedules X-1, X-2, and X-3, which provide for Northwest Alaskan to file 45 days prior to the commencement of the next demand charge period (July 1, 2000 through December 31, 2000) the demand charges and demand charge adjustments which Northwest Alaskan will charge during the period.

Northwest Alaskan states that included in Appendix B attached to the filing are the workpapers supporting the derivation of the revised demand charge adjustment reflected on the tariff sheet included therein.

Northwest Alaskan states that it is serving copies of the instant filing to its affected customers.

Any person desiring to be heard or to protest said filing should file a motion to intervene or a protest with the Federal Energy Regulatory Commission, 888 First Street, NE., Washington, DC 20426, in accordance with Sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-13012 Filed 5-23-00; 8:45 am]

BILLING CODE 6717-01-M